DEPARTMENT OF DEFENSE

Office of the Secretary

Proposed Collection; Comment Request

AGENCY: Department of Defense, Defense Security Service.

ACTION: Notice.

The Department of Defense has submitted to OMB for clearance the following proposal for collection of information under the provisions of the Paperwork Reduction Act (44 U.S.C. Chapter 35).

DATES: Consideration will be given to all comments received by February 20, 2003.

ADDRESSES: Written comments and recommendations on the proposed information collection should be sent to the Defense Security Service.

FOR FURTHER INFORMATION CONTACT: To request more information on this proposed information collection or to obtain a copy of the proposal and associated collection instruments, please write to the above address, or call the Defense Security Service at (703) 325-6182.

Title, Associated Forms, and OMB Number: Defense Security Service FL 14-a, November 1991, OMB No. 0704-0206.

Needs and Uses: The specific objective of a personnel security investigation is to elicit information concerning the loyalty, character, reliability of the individual being investigated to ascertain his or her suitability for a position of trust so that the DoD adjudicator may determine if it is clearly consistent with the interests of national security to grant the individual access to classified information. Adjudicative determinations are made in accordance with DoD 5200.2-R, “DoD Personnel Security Program.” This regulation specifies medical information is to be obtained from records and physicians when there is an indication of a history of mental or nervous disorder, use or abuse of prescribed or illegal drugs, such as marijuana, narcotics or barbiturates; or abuse or excessive use of alcohol. Obtaining such medical information provides the adjudicator with a complex picture of the individual without it, the adjudicator may not be able to make a determination as to where or not the individual should be granted access to classified information.

Affected Public: Individuals, business, or households.

Annual Burden Respondents: 11,700.

Number of Burden Hours: 7,020.

Number of Respondents: 11,700.

Responses per Respondent: 1.

Average Burden Per Response: 0.6 minutes.

Frequency: On occasion.

SUPPLEMENTARY INFORMATION:

Summary of Information Collection

See “Needs and Uses”.

Dated: December 31, 2002.
L.M. Bynum,
Alternate OSD Federal Register Liaison Officer, Department of Defense.

[FR Doc. 03-252 Filed 1-6-03; 8:45 am]

BILLING CODE 5001-01-M